DEPARTMENT OF TRANSPORTATION

Federal Aviation Administration

14 CFR Part 39

[Docket No. 99-CE-62-AD]

RIN 2120-AA64

Airworthiness Directives; Fairchild Aircraft, Inc. Models SA226-T, SA226-AT, SA226-T(B), SA226-TC, SA227-AT, SA-227-TT, and SA-227-AC Airplanes

AGENCY: Federal Aviation Administration, DOT.

ACTION: Notice of proposed rulemaking (NPRM).

SUMMARY: This document proposes to supersede Airworthiness Directive (AD) 92-01-02, which currently requires you to accomplish the following on certain Fairchild Aircraft SA226 and SA227 series airplanes: modify the parking brake system; and inspect (repetitively) certain landing gear brake assemblies.

That AD resulted from wheel brake system malfunctions on several of the affected airplanes where regular brake system maintenance had been performed. The proposed AD retains the modification and inspection requirements of AD 92-01-02 and incorporates the inspection requirements for additional landing gear brake assemblies. The actions specified by the proposed AD are intended to prevent wheel brake system malfunctions that could result in a fire in the brake area.

DATES: The FAA must receive any comments on the proposed rule on or before April 10, 2000.

ADDRESSES: Submit comments in triplicate to the FAA, Central Region, Office of the Regional Counsel, Attention: Rules Docket No. 99-CE-62-AD, 901 Locust, Room 506, Kansas City, Missouri 64106.

You may get the service information referenced in the proposed AD from Fairchild Aircraft, Inc., P.O. Box 790490, San Antonio, Texas 78279-0490; telephone: (210) 824-9421; facsimile: (210) 820-8609 and B.F. Goodrich Aircraft Wheels and Brakes, P.O. Box 340, Troy, Ohio 45373. You may examine this information at the Rules Docket at the address above.

FOR FURTHER INFORMATION CONTACT: Werner Koch, Aerospace Engineer, FAA, Airplane Certification Office, 2601 Meacham Boulevard, Fort Worth, Texas 76193-0150; telephone: (817) 222-5133; facsimile: (817) 222-5960.

SUPPLEMENTARY INFORMATION:

Comments Invited

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

The FAA is re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

If you want us to acknowledge the receipt of your comments, you must include a self-addressed, stamped postcard. On the postcard, write “Comments to Docket No. 99-CE-62-AD.” We will date stamp and mail the postcard back to you.

Discussion

Has the FAA taken any action to this point? Yes. Wheel brake system malfunctions on several Fairchild SA226 and SA227 series airplanes caused the FAA to issue AD 92-01-02, Amendment 39-39-8125 (56 FR 65824, December 19, 1991). This AD currently requires you to accomplish the following on certain Fairchild SA226 and SA227 series airplanes:

—modify the parking brake system; and

—inspect (repetitively) certain landing gear brake assemblies.

You must accomplish the actions of AD 92-01-02 in accordance with the instructions in Fairchild Service Bulletin (SB) No. 226-32-049 and Fairchild SB No. 227-32-017, both Issued: November 14, 1984; and B.F. Goodrich Service Letter No. 1498, dated October 26, 1989.

What has happened since AD 92-01-02 to initiate this action? The inspection requirements of AD 92-01-02 only applied to airplanes equipped with B.F. Goodrich landing gear brake assemblies, part number 2-1203-3. We have received service reports on B.F. Goodrich landing gear brake assemblies, part numbers 2-1203 and 2-1203-01, that indicate these brake assemblies should also be inspected for wear.

The FAA's Determination and Followup Action

What have we decided? After careful review of all available information related to the subject presented above, the FAA has determined that:

—B.F. Goodrich landing gear brake assemblies, part numbers 2-1203 and 2-1203-01, that are installed on certain Fairchild SA226 and SA227 series airplanes should also be inspected for wear and clearance limits; and

—AD action should be taken to incorporate the inspection requirements for additional landing gear brake assemblies into the existing AD action and continue to prevent wheel brake system malfunctions that could result in a fire in the brake area.

What is our next action? Since an unsafe condition has been identified that is likely to exist or develop in other Fairchild SA226 and SA227 series airplanes of the same type design, the FAA is proposing AD action to supersede AD 92-01-02. The proposed AD would retain the modification and inspection requirements of AD 92-01-02 and would incorporate the additional landing gear brake assemblies previously referenced.

Are there differences between the proposed AD and the service information? Yes. B.F. Goodrich Service Letter No. 1498, dated October 26, 1989, specifies maximum clearance brake wear limits of .300-inch for the B.F. Goodrich landing gear brake assemblies, part numbers 2-1203 and 2-1203-01. The proposed AD would establish these limits at .250-inch to coincide with the part number 2-1203-03 landing gear brake assemblies.

Cost Impact

How many airplanes does the proposed AD impact? The FAA estimates that 330 airplanes in the U.S. registry would be affected by the proposed AD.

What is the cost impact of the initial inspection on owners/operators of the affected airplanes? We estimate that it would take approximately 6 workhours per airplane to accomplish the modification and proposed initial inspection, and that the average labor rate is approximately $60 an hour. Parts to accomplish the proposed modification cost approximately $500 per airplane. Based on these figures, the total cost impact of the proposed AD on U.S. operators is estimated to be $283,800, or $860 per airplane.

What about the cost of repetitive inspections?: The figures above only take into account the cost of the proposed initial inspection and do not take into account the cost of proposed repetitive inspections. The FAA has no way of determining how many repetitive inspections each owner/operator of the affected airplanes would incur.

What is the cost if I already accomplished the initial inspection and modification as required by AD 92-01-02?: The only impact for those airplane owners/operators who already complied with both the initial inspection and modification requirements of AD 92-01-02 would be the cost of the repetitive inspections. The only difference between the proposed AD and AD 92-01-02 is the addition (to the inspection requirement) of the B.F. Goodrich landing gear brake assemblies, part numbers 2-1203 and 2-1203-01.

Regulatory Impact

The regulations proposed herein would not have a substantial direct effect on the States, on the relationship between the national government and the States, or on the distribution of power and responsibilities among the various levels of government. Therefore, it is determined that this proposed rule would not have federalism implications under Executive Order 13132.

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. Section 39.13 is amended by removing Airworthiness Directive (AD) 92-01-02, Amendment 398125 (56 FR 65824, December 19, 1991), and by adding a new AD to read as follows:

Fairchild Aircraft, Inc.: Docket No. 99-CE-62-AD; Supersedes AD 92-01-02, Amendment 39-8125.

(a) What airplanes are affected by this AD? The following airplane models and serial numbers, certificated in any category.

Model | Serial Numbers
SA226-T | T201 through T275, and T277 thru T291
SA226-T(B) | T(B) 276 and T(B) 292 through T(B) 417
SA226-AT | AT001 through AT074
SA226-TC | TC201 through TC419
SA227-TT | TT421 through TT555
SA227-AT | AT423 through AT599
SA227-AC | AC406, AC415, AC416, and AC420 through AC599

(b) Who must comply with this AD? Anyone who wishes to operate any of the above airplanes on the U.S. Register.

(c) What problem does this AD address? The actions specified by this AD are intended to prevent brake system malfunctions. This could result in a fire in the brake area.

(d) What actions must I accomplish to address this problem? To address this problem, you must accomplish the following:

(1) For all affected airplanes, modify the parking brake system; and (2) For all affected airplanes equipped with at least one B.F. Goodrich landing gear brake assembly, part number 2-1203, 2-1203-1, or 2-1203-3, inspect and conduct measurements of the brake wear and clearance limits. If wear measure exceeds the maximum allowable clearance (0.250-inch (6.35 millimeter)), overhaul or replace the landing gear brake assembly.

(e) What are the compliance times of this AD?

The compliance times for each of the actions of this AD are as follows: (1) Modification: Within 90 calendar days after January 16, 1992 (the effective date of AD 92-01-02, Amendment 39-8125).

(2) Inspections: At whichever of the following that applies.

(i) For any installed B.F. Goodrich landing gear brake assembly, part number 2-1203-3: Within 100 hours time-in-service (TIS) after January 16, 1992 (the effective date of AD 92-01-02, Amendment 39-8125), and thereafter at intervals not to exceed 250 hours TIS.

(ii) For any installed B.F. Goodrich landing gear brake assembly, part number 2-1203 or 2-1203-1: Within 100 hours TIS after the effective date of this AD, and thereafter at intervals not to exceed 250 hours TIS.

(3) Overhaul or replacement, as necessary: Prior to further flight after the inspection where the wear or the maximum clearance limit is exceeded.

(f) What procedures must I use to accomplish the actions required in this AD?

(1) Modification: The instructions included in either Fairchild Service Bulletin (SB) 227-32-017 or Fairchild SB 226-32-049, both Issued: November 14, 1984, as applicable.

(2) Inspections: The instructions included in B.F. Goodrich No. 1498, Issued: October 26, 1989. The wear and maximum clearance limits specified in this AD take precedence over those specified in the service information.

(3) Overhaul or replacement: The instructions included in the applicable maintenance manual.

(g) Can I comply with this AD in any other way? Yes.

(1) You may use an alternative method of compliance or adjust the compliance time if:

(i) Your alternative method of compliance provides an equivalent level of safety; and

(ii) The Manager, Fort Worth Airplane Certification Office, approves your alternative. Submit your request through an FAA Principal Maintenance Inspector, who may add comments and then send it to the Manager.

(2) This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if you have not eliminated the unsafe condition, specific actions you propose to address it.

(3) Alternative methods of compliance approved in accordance with AD 92-01-02, which is superseded by this AD, are approved as alternative methods of compliance with this AD.

(h) Where can I get information about any already-approved alternative methods of compliance? Contact the Fort Worth Airplane Certification Office, 2601 Meacham Boulevard, Fort Worth, Texas 76193-0150; telephone: (817) 222-5133; facsimile: (817) 222-5960.

(i) What if I need to fly the airplane to another location to comply with this AD? The FAA can issue a special flight permit under sections 21.197 and 21.199 of the Federal Aviation Regulations (14 CFR 21.197 and 21.199) to operate your airplane to a location where you can accomplish the requirements of this AD.

(j) How do I get copies of the documents referenced in this AD? You may obtain copies of the documents referenced in this AD from Fairchild Aircraft, Inc., P.O. Box 790490, San Antonio, Texas 78279-0490; and B.F. Goodrich Aircraft Wheels and Brakes, P.O. Box 340, Troy, Ohio 45373. You may examine these documents at the FAA, Central Region, Office of the Regional Counsel, 901 Locust, Room 506, Kansas City, Missouri 64106.

(k) Does this AD action affect any existing AD actions? Yes. This amendment supersedes AD 92-01-02, Amendment 39-8125.

Issued in Kansas City, Missouri, on February 8, 2000.
Michael K. Dahl,
Acting Manager, Small Airplane Directorate, Aircraft Certification Service.

[FR Doc. 00-3621 Filed 2-15-00; 8:45 am]

BILLING CODE 4910-13-U